DEPARTMENT OF TRANSPORTATION

Surface Transportation Board

[STB Finance Docket No. 33871]

The Burlington Northern and Santa Fe Railway Company—Acquisition Exemption—Lines of Union Pacific Railroad Company

AGENCY: Surface Transportation Board.

ACTION: Notice of exemption.

SUMMARY: The Board grants an exemption under 49 U.S.C. 10502, from the prior approval requirements of 49 U.S.C. 11323-25, for The Burlington Northern and Santa Fe Railway Company (BNSF) to purchase and operate a 2.25-mile segment of Union Pacific Railroad Company's (UP) line from Orin to Orin Junction, WY, and UP's undivided one-half ownership interest in a 3.06-mile segment of rail line between Orin Junction and Fisher, WY.

DATES: This exemption will be effective September 13, 2000. Petitions to stay must be filed by August 24, 2000, and petitions to reopen must be filed by September 5, 2000.

ADDRESSES: Send an original and 10 copies of pleadings referring to STB Finance Docket No. 33871 to: Surface Transportation Board, Office of the Secretary, Case Control Unit, 1925 K Street, N.W., Washington, DC 20423-0001. In addition, send one copy of pleadings to petitioner's representative: Michael A. Smith, Freeborn & Peters, 311 South Wacker Drive, Suite 300, Chicago, IL 60606.

FOR FURTHER INFORMATION CONTACT: Beryl Gordon, (202) 565-1600. [TDD for the hearing impaired: 1-800-877-8339.]

SUPPLEMENTARY INFORMATION: Additional information is contained in the Board's decision. To purchase a copy of the full decision, write to, call, or pick up in person from: Dā-To-Dā Office Solutions, 1925 K Street, N.W., Suite 405, Washington, DC 20006. Telephone: (202) 466-5530. [Assistance for the hearing impaired is available through TDD Services 1-800-877-8339.]

Board decisions and notices are available on our website at “WWW.STB.DOT.GOV.”

Decided: August 4, 2000.
By the Board, Chairman Morgan, Vice Chairman Burkes, and Commissioner Clyburn.
Vernon A. Williams,
Secretary.

[FR Doc. 00-20435 Filed 8-11-00; 8:45 am]

BILLING CODE 4915-00-P